NATIONAL FOUNDATION ON THE ARTS AND THE HUMANITIES

Institute of Museum and Library Services

Submission for OMB Review, Comment Request, Proposed Collection: Museum Assessment Program Application Forms

AGENCY: Institute of Museum and Library Services, National Foundation on the Arts and the Humanities.

ACTION: Submission for OMB review, comment request.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of three forms associated with the application process and five customer feedback surveys for the Museum Assessment Program. A copy of the proposed information collection request can be obtained by contacting the individual listed below in the FOR FURTHER INFORMATION CONTACT section of this Notice.

DATES: Written comments must be submitted to the office listed in the ADDRESSES section below on or before February 26, 2022.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Mark Isaksen, Supervisory Grants Management Specialist, Institute of Museum and Library Services, 955 L'Enfant Plaza North SW, Suite 4000, Washington, DC 20024-2135. Mr. Isaksen can be reached by telephone at 202-653-4667, or by email at misaksen@imls.gov. Persons who are deaf or hard of hearing (TTY users) can contact IMLS at 202-207-7858 via 711 for TTY-Based Telecommunications Relay Service.

SUPPLEMENTARY INFORMATION: The Institute of Museum and Library Services is the primary source of federal support for the nation's libraries and museums. We advance, support, and empower America's museums, libraries, and related organizations through grant making, research, and policy development. To learn more, visit www.imls.gov.

Current Actions: This Notice proposes the clearance of Museum Assessment Program (MAP) application forms and surveys. The 60-Day Notice was published in the Federal Register on November 30, 2021 (86 FR 37979-67980).No comments were received.

MAP is a technical assistance program that offers museums an opportunity to strengthen operations and plan for the future through a process of self-assessment, institutional activities, and consultative peer review. MAP is supported through a cooperative agreement between IMLS and the American Alliance of Museums. Program participants choose from among five assessments: Organizational, Collections Stewardship, Community and Audience Engagement, Board Leadership, and Education and Interpretation. Those who complete the assessment receive a report with prioritized recommendations reflecting the assessment type chosen. The forms submitted for public review include the MAP Application, the MAP Signatures Page, the MAP Follow-Up Visit Request Form, and five surveys addressing specific aspects of the assessment process, the materials used, the individual(s) serving as peer reviewers, and the impact one year after the assessment's conclusion. The application forms are used in participant selection and notification, and the surveys are designed to enhance understanding of where and how the program can be improved.

Agency: Institute of Museum and Library Services.

Title: Museum Assessment Program Application Forms.

OMB Control Number: 3137-0101.

Agency Number: 3137.

Affected Public: Museum staff.

Total Number of Respondents: 650.

Frequency of Response: Once per request.

Average Minutes per Response: 142.

Total Burden Hours: 1,537.00.

Total Annualized Capital/Startup Costs: n/a.

Total Annual Cost Burden: $45,556.68.

Total Annual Federal Costs: $3,820.50.

Dated: January 24, 2022.
Suzanne Mbollo,
Grants Management Specialist, Institute of Museum and Library Services.

[FR Doc. 2022-01610 Filed 1-26-22; 8:45 am]

BILLING CODE 7036-01-P